DEPARTMENT OF HOMELAND SECURITY

Coast Guard

33 CFR Part 165

[Docket No. USCG-2021-0498]

Safety Zones; Recurring Safety Zones in Captain of the Port Sault Sainte Marie Zone, Festivals of Fireworks Celebration, St. Ignace, MI

AGENCY: Coast Guard, Department of Homeland Security (DHS).

ACTION: Notice of enforcement of regulation.

SUMMARY: The Coast Guard will enforce a safety zone for the Festivals of Fireworks Celebration Fireworks in St. Ignace, MI. This action is necessary to provide for safety on navigable waterways and intended to protect life and property from the navigational hazards associated with a fireworks display. During the enforcement periods, vessels must stay out of the established safety zone and may only enter with permission the Captain of the Port Sault Sainte Marie or a designated representative.

DATES: The regulation listed in 33 CFR 165.918, Table 165.918(4), will be enforced from 9:30 p.m. through 10:30 p.m. on September 4, 2021.

FOR FURTHER INFORMATION CONTACT: If you have questions about this publication, call or email LT Deaven Palenzuela, Waterways Management division, Coast Guard Sector Sault Sainte Marie, U.S. Coast Guard; telephone: 906-635-3223, email: ssmprevention@uscg.mil.

SUPPLEMENTARY INFORMATION: The Coast Guard will enforce a safety zone for the Festivals of Fireworks Celebration Fireworks in St. Ignace, MI as listed in 33 CFR 165.918, Table 165.918(4), from 9:30 p.m. through 10:30 p.m. on September 4, 2021, on all U.S. navigable waters of East Moran Bay within an approximate 1,000-foot radius from the fireworks launch site at the end of the Starline Mill Slip, centered in position: 45°52′24.62″ N, 084°43′18.13″ W. Pursuant to 33 CFR 165.23 and 165.918, entry into, transiting, or anchoring within the safety zone during an enforcement period is prohibited unless authorized by the Captain of the Port Sault Sainte Marie or a designated representative. Those seeking permission to enter the safety zone may request permission from the Captain of Port Sault Sainte Marie via channel 16, VHF-FM. Vessels and persons granted permission to enter the safety zone shall obey the directions of the Captain of the Port Sault Sainte Marie or a designated representative.

This notice of enforcement is issued under authority of 33 CFR 165.918 and 5 U.S.C. 552(a). In addition to this notice of enforcement in the Federal Register, the Coast Guard will provide the maritime community with advance notification of this enforcement period via Broadcast Notice to Mariners or Local Notice to Mariners. If the Captain of the Port Sault Sainte Marie determines that the safety zone need not be enforced for the full duration stated in this notice he or she may use a Broadcast Notice to Mariners to grant general permission to enter the respective safety zone.

Dated: June 30, 2021.
A.R. Jones,
Captain, U.S. Coast Guard, Captain of the Port Sault Sainte Marie.

[FR Doc. 2021-14454 Filed 7-7-21; 8:45 am]

BILLING CODE 9110-04-P